DEPARTMENT OF TRANSPORTATION

Federal Aviation Administration

14 CFR Part 39

[Docket No. 2000-NE-14-AD; Amendment 39-12650; AD 2002-03-09]

RIN 2120-AA64

Airworthiness Directives; Honeywell International Inc. (Formerly AlliedSignal Inc. and Textron Lycoming) LTS101 Series Turboshaft and LTP101 Series Turboprop Engines

AGENCY: Federal Aviation Administration, DOT.

ACTION: Final rule.

SUMMARY: This amendment adopts a new airworthiness directive (AD), that is applicable to Honeywell International Inc. (formerly AlliedSignal Inc. and Textron Lycoming) LTS101 series turboshaft and LTP101 series turboprop engines. This amendment requires a one-time visual inspection for surface finish and a one-time fluorescent penetrant inspection for cracks of certain impellers installed on LTS101 series turboshaft and LTP101 series turboprop engines. This amendment is prompted by a report of a machining discrepancy that may have occurred during manufacture of the affected impellers. The actions specified by this AD are intended to prevent impeller failure from cracks in the impeller back face area, which could result in an uncontained engine failure.

DATES: Effective date March 27, 2002.

The incorporation by reference of certain publications listed in the regulations is approved by the Director of the Federal Register as of March 27, 2002.

ADDRESSES: The service information referenced in this AD may be obtained from Honeywell International Inc. Aerospace Services Attn.: Data Distribution, M/S 64-3/2101-201, PO Box 29003, Phoenix, AZ 85038-9003; telephone (602) 365-2493, fax (602) 365-5577. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION: A proposal to amend part 39 of the Federal Aviation Regulations (14 CFR part 39) to include an AD that is applicable to Honeywell International Inc. (formerly AlliedSignal Inc. and Textron Lycoming) LTS101 series turboshaft and LTP101 series turboprop engines was published in the Federal Register on October 29, 2001 (66 FR 54463). That action proposed to require a one-time visual inspection for surface finish and a one-time fluorescent penetrant inspection for cracks of certain impellers installed on LTS101 series turboshaft and LTP101 series turboprop engines in accordance with AlliedSignal Service Bulletin (SB) LT 101-72-30-0186, dated October 1, 1999, or Honeywell International Inc. SB LT 101-72-30-0186, Revision 1, dated April 25, 2000.

Comments

Interested persons have been afforded an opportunity to participate in the making of this amendment. No comments were received on the proposal or the FAA's determination of the cost to the public. The FAA has determined that air safety and the public interest require the adoption of the rule as proposed.

Economic Analysis

The FAA estimates that 600 engines installed on aircraft of U.S. registry would be affected by this AD and that it would take approximately 4 work hours per engine to accomplish the inspection. The average labor rate is $60 per work hour. There are no required parts costs. Based on these figures, the total cost effect of this AD on U.S. operators is estimated to be $144,000.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-03-09 Honeywell International Inc.: Amendment 39-12650. Docket No. 2000-NE-14-AD.

Applicability

This airworthiness directive (AD) is applicable to Honeywell International Inc. (formerly AlliedSignal Inc. and Textron Lycoming) LTS101 series turboshaft and LTP101 series turboprop engines with the following centrifugal compressor impeller part numbers (P/N's) installed: 4-101-052-57 and 4-101-052-62, except those with a P/N or serial number (SN) listed in paragraphs 1.A.(1) through 1.A.(3) of AlliedSignal Service Bulletin (SB) LT 101-72-30-0186, dated October 1, 1999, or Honeywell International Inc. SB LT 101-72-30-0186, Revision 1, dated April 25, 2000. These engines are installed on, but not limited to Aerospatiale AS350, Eurocopter MBB-BK117 and HH-65A, Bell 222, Page Thrush, Air Tractor AT-302, Piaggio P.166-DL3, Riley International R421, and Pacific Aero 08-600 aircraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent impeller failure from cracks in the impeller back face area, which could result in an uncontained engine failure, do the following:

(a) Within 900 gas generator (Ng) cycles after the effective date of this AD, conduct a one-time visual inspection for surface finish and fluorescent penetrant inspection of impellers P/N 4-101-052-57 and 4-101-052-62 for cracks in accordance with paragraphs 3.A through 3.F. of the Accomplishment Instructions of AlliedSignal SB LT 101-72-30-0186, dated October 1, 1999, or Honeywell International Inc. SB LT 101-72-30-0186, Revision 1, dated April 25, 2000.

(b) Replace all impellers that exceed the acceptable limits of the Accomplishment Instructions of AlliedSignal Service Bulletin (SB) LT 101-72-30-0186, dated October 1, 1999, or Honeywell International Inc. SB LT 101-72-30-0186, Revision 1, dated April 25, 2000, with a serviceable impeller.

(c) After the effective date of this AD, do not install impeller P/N's 4-101-052-57 or 4-101-052-62, except those with an impeller P/N or SN listed in paragraphs 1. A.(1) through 1. A.(3) of AlliedSignal SB LT 101-72-30-0186, dated October 1, 1999, or Honeywell International Inc. SB LT 101-72-30-0186, Revision 1, dated April 25, 2000.

Alternative Methods of Compliance

(d) An alternative method of compliance or adjustment of the compliance time that provides an acceptable level of safety may be used if approved by the Manager, Los Angles Aircraft Certification Office (LAACO). Operators must submit their request through an appropriate FAA Principal Maintenance Inspector, who may add comments and then send it to the Manager, LAACO.

Note 2: Information concerning the existence of approved alternative methods of compliance with this airworthiness directive, if any, may be obtained from the LAACO.

Special Flight Permits

(e) Special flight permits may be issued in accordance §§ 21.197 and 21.199 of the Federal Aviation Regulations (14 CFR 21.197 and 21.199) to operate the aircraft to a location where the requirements of this AD can be done.

Documents That Have Been Incorporated by Reference

(f) The inspections must be done in accordance with the following SB's:

Document No. | Pages | Revision | Date
AlliedSignal SB LT 101-72-30-0186 | All | Original | Oct. 1, 1999.
Total pages: 7
Honeywell International Inc. SB LT 101-72-30-0186 | 1 2 3-6 7 | Original 1 Original 1 | Oct. 1, 1999. Apr. 25, 2000. Oct. 1, 1999. Apr. 25, 2000.
Total pages: 7

This incorporation by reference was approved by the Director of the Federal Register in accordance with 5 U.S.C. 552(a) and 1 CFR part 51. Copies may be obtained from Honeywell International Inc. Aerospace Services Attn.: Data Distribution, M/S 64-3/2101-201, PO Box 29003, Phoenix, AZ 85038-9003; telephone (602) 365-2493, fax (602) 365-5577. Copies may be inspected, by appointment, at the FAA, New England Region, Office of the Regional Counsel, 12 New England Executive Park, Burlington, MA; or at the Office of the Federal Register, 800 North Capitol Street, NW, suite 700, Washington, DC.

Effective Date

(g) This amendment becomes effective on March 27, 2002.

Issued in Burlington, Massachusetts, on February 5, 2002.
Jay J. Pardee,
Manager, Engine and Propeller Directorate, Aircraft Certification Service.

[FR Doc. 02-3578 Filed 2-19-02; 8:45 am]

BILLING CODE 4910-13-P